FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 14289N.

Name: BCR Freight (USA) Inc.

Address: 161 W. Victoria Street, Suite 240, Long Beach, CA 90805.

Date Revoked: April 12, 2002.

Reason: Failed to maintain a valid bond.

License Number: 4153N.

Name: Coda International, Inc.

Address: 239 New Road, Bldg. #A, Rm. 103, Parsippany, NJ 07054.

Date Revoked: March 31, 2002.

Reason: Failed to maintain a valid bond.

License Number: 14580N.

Name: Euro-America Container Line Inc.

Address: 12981 Ramona Blvd., Suite A, Irwindale, CA 91706.

Date Revoked: April 4, 2002.

Reason: Failed to maintain a valid bond.

License Number: 10614N.

Name: Five Oceans Cargo Lines, Ltd.

Address: 836 Five Forks Road, Virginia Beach, VA 23455.

Date Revoked: April 12, 2002.

Reason: Failed to maintain a valid bond.

License Number: 6347N.

Name: Josefina Seberger, Inc. dba Serve Freight Systems.

Address: 5123 Maplewood Avenue, Los Angeles, CA 90004.

Date Revoked: April 5, 2002.

Reason: Failed to maintain a valid bond.

License Number: 7802N.

Name: Orient Star Trading & Shipping, Inc.

Address: 38-01 69th Street, Woodside, NY 11377.

Date Revoked: April 3, 2002.

Reason: Failed to maintain a valid bond.

License Number: 16267N.

Name: Trident Transport International, Inc.

Address: 215 W. Diehl Road, Naperville, IL 60563.

Date Revoked: April 12, 2002.

Reason: Failed to maintain a valid bond.

Sandra L. Kusumoto,
Director, Bureau of Consumer Complaints and Licensing.

[FR Doc. 02-10738 Filed 4-30-02; 8:45 am]

BILLING CODE 6730-01-P